DEPARTMENT OF COMMERCE

International Trade Administration

[A-570-848]

Freshwater Crawfish Tail Meat From the People's Republic of China: Preliminary Results of Antidumping Duty Administrative Review; 2017-2018

AGENCY: Enforcement and Compliance, International Trade Administration, Department of Commerce.

SUMMARY: The Department of Commerce (Commerce) preliminarily determines that certain companies covered by the administrative review made sales of subject merchandise at prices below normal value. Interested parties are invited to comment on these preliminary results.

DATES: Applicable July 18, 2019.

FOR FURTHER INFORMATION CONTACT: Andre Gziryan at (202) 482-2201 (Hubei Qianjiang), Jacob Keller (202) 482-4849 (Nanjing Gemsen), AD/CVD Operations, Office I, Enforcement and Compliance, International Trade Administration, U.S. Department of Commerce, 1401 Constitution Avenue NW, Washington, DC 20230.

SUPPLEMENTARY INFORMATION:

Background

Commerce is conducting an administrative review of the antidumping duty order on freshwater crawfish tail meat from the People's Republic of China (China). The period of review (POR) is September 1, 2017 through August 31, 2018. This administrative review covers two mandatory respondents, Hubei Qianjiang Huashan Aquatic Food and Product Co., Ltd. (Hubei Qianjiang) and Nanjing Gemsen International Co., Ltd. (Nanjing Gemsen). Commerce preliminarily determines that sales of subject merchandise by Hubei Qianjiang have not been made at prices below normal value, and sales of subject merchandise by Nanjing Gemsen have been made at prices below normal value.

Scope of the Order

The merchandise subject to the antidumping duty order is freshwater crawfish tail meat, which is currently classified in the Harmonized Tariff Schedule of the United States (HTSUS) under subheadings 1605.40.10.10, 1605.40.10.90, 0306.19.00.10, and 0306.29.00.00. On February 10, 2012, Commerce added HTSUS classification number 0306.29.01.00 to the scope description pursuant to a request by U.S. Customs and Border Protection (CBP). On September 21, 2018, Commerce added HTSUS classification numbers 0306.39.0000 and 0306.99.0000 to the scope description pursuant to a request by CBP. While the HTSUS numbers are provided for convenience and customs purposes, the written description is dispositive. A full description of the scope of the order is contained in the Preliminary Decision Memorandum.¹

¹ See Memorandum, “Freshwater Crawfish Tail Meat from the People's Republic of China: Decision Memorandum for the Preliminary Results of the Antidumping Duty Administrative Review; 2017-2018,” dated concurrently with, and hereby adopted by, this notice (Preliminary Decision Memorandum).

Preliminary Determination of No Shipments

Five companies that received a separate rate in previous segments of the proceeding and are subject to this review reported that they did not have any exports of subject merchandise during the POR.² Additionally, Nanjing Yinxiangchen International Trade Co., Ltd. is subject to the semi-annual new shipper review covering the period September 1, 2017 through February 28, 2018, and reported that it did not have exports of subject merchandise in the last six months of this administrative review (i.e., March 1, 2018 through August 31, 2018).³ We requested that CBP report any contrary information.⁴ In response to our inquiry, CBP indicated that these six companies did not have any shipments of the subject merchandise sold to the United States during the POR.⁵ Further, consistent with our practice, we find that it is not appropriate to rescind the review with respect to these companies but, rather, to complete the review and issue appropriate instructions to CBP based on the final results of review.⁶

² See No-Shipment Letters from Weishan Hongda Aquatic Food Co., Ltd., dated November 30, 2018; Kunshan Xinrui Trading Co., Ltd. and Nanjing Yinxiangchen International Trade Co., Ltd., each dated December 4, 2018; Shanghai Ocean Flavor International Trading Co., Ltd. and Anhui Luan Hongyuan Foodstuffs Co., Ltd., each dated December 14, 2018; and China Kingdom (Beijing) Import & Export Co., Ltd. (China Kingdom), dated February 28, 2019. China Kingdom submitted its no shipment letter past the 30-day deadline, however, we have accepted it as a clarification to its separate rate certification (see China Kingdom's Letter, “Freshwater Crawfish Tail Meat from the People's Republic of China Separate Rate Certification,” dated December 14, 2018 at 4 and 6) that it had sales to the United States but no suspended entries of subject merchandise into the United States during the POR.

³ See Nanjing Yinxiangchen International Trade Co., Ltd.'s Letter, “Freshwater Crawfish Tail Meat from the People's Republic of China: Concurrent Shipment Certification,” dated December 4, 2018.

⁴ See CBP message numbers 9150301, 9150302, 9150303, 9150304, 9157303, and 9157304, available at https://aceservices.cbp.dhs.gov/adcvdweb.

⁵ See Memorandum, “No shipment inquiry with respect to the companies below during the period 09/01/2017 through 08/31/2018,” dated July 2, 2019.

⁶ See, e.g., Wooden Bedroom Furniture from the People's Republic of China: Final Results and Final Rescission, In Part, of Administrative Review and Final Results of New Shipper Review; 2013, 80 FR 34619 (June 17, 2015).

Separate Rates

Commerce preliminarily determines that eight respondents are eligible to receive separate rates in this review.⁷

⁷ See Preliminary Decision Memorandum at 5-6.

Separate Rate for Eligible Non-Selected Respondents

Commerce preliminarily determines that the respondents not selected for individual examination, Deyan Aquatic Products and Food Co., Ltd. (Deyan Aquatic); Hubei Nature Agriculture Industry Co., Ltd. (Hubei Nature); Hubei Yuesheng Aquatic Products Co., Ltd. (Hubei Yuesheng); Xiping Opeck Food Co., Ltd. (Xiping Opeck); Xuzhou Jinjiang Foodstuffs Co., Ltd. (Xuzhou Jinjiang); and Yancheng Hi-King Agricultural Developing Co., Ltd. (Yancheng Hi-King) are eligible to receive a separate rate in the administrative review.⁸ Consistent with our practice, we assigned to Deyan Aquatic, Hubei Nature, Hubei Yuesheng, Xiping Opeck, Xuzhou Jinjiang, and Yancheng Hi-King the margin calculated for Nanjing Gemsen as the separate rate for the preliminary results of this review.⁹

⁸ Id.at 7-8.

⁹ Id.

China-Wide Entity

Commerce's policy regarding conditional review of the China-wide entity applies to this administrative review.¹⁰ Under this policy, the China-wide entity will not be under review unless a party specifically requests, or Commerce self-initiates, a review of the entity. Because no party requested a review of the China-wide entity in this review, the entity is not under review and the entity's rate is not subject to change (i.e., 223.01 percent).¹¹ Aside from the no-shipments and separate rate companies discussed above, Commerce preliminarily determines that Jingzhou Tianhe Aquatic Products Co., Ltd., for which a review was requested (which did not file a separate rate application) is part of the China-wide entity.¹²

¹⁰ See Antidumping Proceedings: Announcement of Change in Department Practice for Respondent Selection in Antidumping Duty Proceedings and Conditional Review of the Nonmarket Economy Entity in NME Antidumping Duty Proceedings, 78 FR 65963 (November 4, 2013).

¹¹ See Freshwater Crawfish Tail Meat from the People's Republic of China; Notice of Final Results of Antidumping Duty Administrative Review, 68 FR 19504 (April 21, 2003).

¹² See Initiation of Antidumping and Countervailing Duty Administrative Reviews, 83 FR 57411 (November 15, 2018) (“All firms listed below that wish to qualify for separate rate status in the administrative reviews involving NME countries must complete, as appropriate, either a separate rate application or certification, as described below.”); see also Preliminary Decision Memorandum at 8.

Methodology

Commerce is conducting this review in accordance with section 751(a)(1)(B) of the Tariff Act of 1930, as amended (the Act), and 19 CFR 351.213. Export price is calculated in accordance with section 772(c) of the Act. Because China is a non-market economy within the meaning of section 771(18) of the Act, normal value has been calculated in accordance with section 773(c) of the Act.

For a full description of the methodology underlying our conclusions, see the Preliminary Decision Memorandum. The Preliminary Decision Memorandum is a public document and is made available to the public via Enforcement and Compliance's Antidumping and Countervailing Duty Centralized Electronic Service System (ACCESS). ACCESS is available to registered users at https://access.trade.gov, and to all parties in Commerce's Central Records Unit, Room B8024 of the main Commerce building. In addition, a complete version of the Preliminary Decision Memorandum can be found at http://enforcement.trade.gov/frn/. The signed and electronic versions of the Preliminary Decision Memorandum are identical in content. A list of the topics discussed in the Preliminary Decision Memorandum is attached as an Appendix to this notice.

Preliminary Results

Commerce preliminarily determines that the following weighted-average dumping margins exist during the period September 1, 2017 through August 31, 2018:

Producer/exporter | Weighted- average margin (percent)
Deyan Aquatic Products and Food Co., Ltd | 7.92
Hubei Nature Agriculture Industry Co., Ltd | 7.92
Hubei Qianjiang Huashan Aquatic Food and Product Co., Ltd | 0.00
Hubei Yuesheng Aquatic Products Co., Ltd | 7.92
Nanjing Gemsen International Co., Ltd | 7.92
Xiping Opeck Food Co., Ltd | 7.92
Xuzhou Jinjiang Foodstuffs Co., Ltd | 7.92
Yancheng Hi-King Agricultural Developing Co., Ltd | 7.92

Disclosure

We intend to disclose calculations performed in these preliminary results to parties within five days after public announcement of the preliminary results.¹³

¹³ See 19 CFR 351.224(b).

Public Comment

Pursuant to 19 CFR 351.309(c)(ii), interested parties may submit case briefs no later than 30 days after the date of publication of this notice.¹⁴ Rebuttal briefs, limited to issues raised in the case briefs, may be filed no later than five days after the date for filing case briefs.¹⁵ Parties who submit case briefs or rebuttal briefs in this proceeding are encouraged to submit with each argument: (1) A statement of the issue; (2) a brief summary of the argument; and (3) a table of authorities.¹⁶

¹⁴ See 19 CFR 351.309(c).

¹⁵ See 19 CFR 351.309(d).

¹⁶ See 19 CFR 351.309(c)(2) and (d)(2); and 19 CFR 351.303 (for general filing requirements).

Interested parties who wish to request a hearing must submit a written request to the Assistant Secretary for Enforcement and Compliance, U.S. Department of Commerce, filed electronically using ACCESS. An electronically filed document must be received successfully in its entirety by ACCESS by 5:00 p.m. Eastern Time within 30 days after the date of publication of this notice.¹⁷ Hearing requests should contain: (1) The party's name, address, and telephone number; (2) the number of participants; and (3) a list of issues to be discussed. Issues raised in the hearing will be limited to those raised in the respective case briefs.

¹⁷ See 19 CFR 351.310(c).

Unless the deadline is extended, Commerce intends to issue the final results of this review, including the results of its analysis of issues raised by parties in their comments, within 120 days after the publication of these preliminary results, pursuant to section 751(a)(3)(A) of the Act and 19 CFR 351.213(h).

Assessment Rates

Upon issuing the final results, Commerce will determine, and CBP shall assess, antidumping duties on all appropriate entries covered by this review.¹⁸ If a respondent's weighted-average dumping margin is above de minimis (i.e., 0.50 percent) in the final results of this review, we will calculate an importer-specific assessment rate on the basis of the ratio of the total amount of dumping calculated for each importer's examined sales and, where possible, the total entered value of sales. Specifically, Commerce will apply the assessment rate calculation method adopted in Final Modification for Reviews.¹⁹ Where an importer- (or customer-) specific ad valorem rate is zero or de minimis, we will instruct CBP to liquidate appropriate entries without regard to antidumping duties.²⁰

¹⁸ See 19 CFR 351.212(b)(1).

¹⁹ See Antidumping Proceeding: Calculation of the Weighted-Average Dumping Margin and Assessment Rate in Certain Antidumping Duty Proceedings; Final Modification, 77 FR 8103 (February 14, 2012) (Final Modification for Reviews).

²⁰ See 19 CFR 351.106(c)(2).

For entries that were not reported in the U.S. sales databases submitted by exporters individually examined during this review, Commerce will instruct CBP to liquidate such entries at the China-wide rate. If Commerce determines that an exporter under review had no shipments of the subject merchandise, any suspended entries that entered under that exporter's case number (i.e., at that exporter's rate) will be liquidated at the China-wide rate.²¹

²¹ See Non-Market Economy Antidumping Proceedings: Assessment of Antidumping Duties, 76 FR 65694, 65695 (October 24, 2011).

We intend to issue assessment instructions to CBP 15 days after the date of publication of the final results of this review.

Cash Deposit Requirements

On June 7, 2019, as a result of the five-year (sunset) review, Commerce revoked the antidumping duty order on imports of freshwater crawfish tail meat from China.²² In the Revocation Notice, Commerce stated that it intends to issue instructions to CBP to terminate the suspension of liquidation and to discontinue the collection of cash deposits on entries of subject merchandise, entered or withdrawn from warehouse, on or after May 16, 2019.²³ Furthermore, because the antidumping duty order on freshwater crawfish tail meat from China has been revoked as a result of the Revocation Notice, Commerce will not issue cash deposit instructions at the conclusion of this administrative review.

²² See Freshwater Crawfish Tail Meat from the People's Republic of China: Final Results of Sunset Review and Revocation of Antidumping Duty Order, 84 FR 26647 (June 7, 2019) (Revocation Notice).

²³ See Revocation Notice.

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing the preliminary results of this review in accordance with sections 751(a)(1), 751(a)(3), and 777(i) of the Act, and 19 CFR 351.213 and 351.221(b)(4).

Dated: July 11, 2019.
Jeffrey I. Kessler,
Assistant Secretary for Enforcement and Compliance.

Appendix—List of Topics Discussed in the Preliminary Decision Memorandum

I. Summary

II. Background

III. Scope of the Order

IV. Discussion of the Methodology

V. Currency Conversion

VI. Recommendation

[FR Doc. 2019-15191 Filed 7-17-19; 8:45 am]

BILLING CODE 3510-DS-P